DEPARTMENT OF ENERGY

Federal Energy Regulatory Commission

Combined Notice of Filings

Take notice that the Commission has received the following Natural Gas Pipeline Rate and Refund Report filings:

Filings Instituting Proceedings

Docket Numbers: RP23-418-000.

Applicants: Rover Pipeline LLC.

Description: § 4(d) Rate Filing: Summary of Negotiated Rate Capacity Release Agreements on 2-2-23 to be effective 2/1/2023.

Filed Date: 2/2/23.

Accession Number: 20230202-5089.

Comment Date: 5 p.m. ET 2/14/23.

Docket Numbers: RP23-419-000.

Applicants: Texas Eastern Transmission, LP.

Description: § 4(d) Rate Filing: Texas Eastern Transmission, LP submits tariff filing per 154.204: Non-conforming Agreements—NextEra 911890 and 911892 to be effective 2/1/2023.

Filed Date: 2/2/23.

Accession Number: 20230202-5106.

Comment Date: 5 p.m. ET 2/14/23.

Docket Numbers: RP23-420-000.

Applicants: Equitrans, L.P.

Description: Compliance filing: Equitrans, L.P. submits tariff filing per 154.203: Penalty Revenue Crediting Report to be effective N/A.

Filed Date: 2/3/23.

Accession Number: 20230203-5005.

Comment Date: 5 p.m. ET 2/15/23.

Docket Numbers: RP23-421-000.

Applicants: Great Basin Gas Transmission Company.

Description: § 4(d) Rate Filing: Tariff Preliminary Statement for new Baseline Tariff to be effective 1/23/2023.

Filed Date: 2/3/23.

Accession Number: 20230203-5084.

Comment Date: 5 p.m. ET 2/15/23.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: PR22-70-001.

Applicants: BBT Bamagas Intrastate, LLC.

Description: Rate Filing: BBT Bamagas Intrastate Amended PR22-70 Filing to be effective 9/27/2022.

Filed Date: 2/3/23.

Accession Number: 20230203-5085.

Comment Date: 5 p.m. ET 2/24/23.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 3, 2023.
Debbie-Anne A. Reese,
Deputy Secretary.

[FR Doc. 2023-02765 Filed 2-8-23; 8:45 am]

BILLING CODE 6717-01-P